ENVIRONMENTAL PROTECTION AGENCY

[FRL-11351-01-R6]

Notice of Proposed Administrative Settlement Agreement and Order on Consent for De Minimus Landowner Settlement

AGENCY: Environmental Protection Agency (EPA).

ACTION: Notice of proposed settlement; request for public comment.

SUMMARY: In accordance with the Comprehensive Environmental Response, Compensation, and Liability Act (“CERCLA”), notice is hereby given that a proposed CERCLA section 122(g)(4) De Minimus Landowner Administrative Settlement Agreement for Parties (“Proposed Agreement”) associated with the Fansteel Metals/FMRI Site in Muskogee, Oklahoma (“Site”) was executed by the Environmental Protection Agency (“EPA”) and is now subject to public comment, after which EPA may modify or withdraw its consent if comments received disclose facts or considerations that indicate that the Proposed Agreement is inappropriate, improper, or inadequate. The Proposed Agreement would resolve potential EPA claims under section 107(a) of CERCLA, against The Port of Muskogee/Landowners (“Settling Party”) for EPA response costs at the Fansteel Metals/FMRI Superfund Site located in Muskogee, Oklahoma. The settlement is non-monetary, but The Port of Muskogee/Landowners agree to cooperate fully with EPA in the implementation of response actions at the Site and further agrees not to interfere with such response actions. For thirty (30) days following the date of publication of this notice, EPA will receive electronic comments relating to the Proposed Agreement. EPA's response to any comments received will be available for public inspection by request. Please see the ADDRESSES section of this notice for special instructions in effect due to impacts related to the COVID-19 pandemic.

DATES: Comments must be received on or before December 20, 2023.

ADDRESSES: As a result of impacts related to the COVID-19 pandemic, requests for documents and submission of comments must be via electronic mail except as provided below. The Proposed Agreement and additional background information relating to the Proposed Agreement are available for public inspection upon request by contacting EPA Assistant Regional Counsel Elizabeth Pletan at pletan.elizabeth@epa.gov.

Comments must be submitted via electronic mail to this same email address and should reference the “Fansteel Metals/FMRI” Superfund Site, Proposed Settlement Agreement” and “EPA CERCLA Docket No. 06-06-23”. Persons without access to electronic mail may call Mrs. Pletan at (214) 665-8525 to make alternative arrangements.

FOR FURTHER INFORMATION CONTACT: Elizabeth Pletan at EPA by phone (214) 665-8525 or email at: Pletan.elizabeth@epa.gov.

Earthea Nance,
Regional Administrator, Region 6.

[FR Doc. 2023-25604 Filed 11-17-23; 8:45 am]

BILLING CODE 6560-50-P